DEPARTMENT OF DEFENSE

Department of the Air Force

Notice of Intent To Grant an Exclusive Patent License With a Joint Ownership Agreement

AGENCY: Department of the Air Force, Department of Defense.

ACTION: Notice of intent.

SUMMARY: Pursuant to the Bayh-Dole Act and implementing regulations, the Department of the Air Force hereby gives notice of its intent to grant an exclusive patent license with a joint ownership agreement to co-owner, Board of Regents of The University of Oklahoma, a non-profit, duly organized, validly existing, and in good standing in the State of Oklahoma, having a place of business at 660 Parrington Oval #119, Norman, OK 73019.

DATES: Written objections must be filed no later than fifteen (15) calendar days after the date of publication of this Notice.

ADDRESSES: Submit written objections to AFMCLO/JAZ, 2240 B Street, Wright-Patterson AFB, OH 45433; Facsimile: (937) 255-3733; or Email: afmclo.jaz.pat@us.af.mil. Include Docket No. ARY-210728A-JA in the subject line of the message.

FOR FURTHER INFORMATION CONTACT: Technology Transfer Manager, Jason Sopko, AFRL/RYO, 2241 Avionics Circle, Bldg. 600, Wright-Patterson AFB, OH 45433; Telephone: (312) 713-4494; Email: jason.sopko.2@us.af.mil.

SUPPLEMENTARY INFORMATION: The Department of the Air Force intends to grant the exclusive patent license agreement with joint ownership described in:

—U.S. Application Serial No. 16/868,975, entitled Waveform Stitching in Frequency-Stepped Systems and issued 7 May 2020.

—U.S. Application Serial No. 16/869,016, entitled RF Network configuration for tracking and monitoring phase offsets to enable phase and timing synchronization of distributed radar platforms and issued 7 May 2020.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2021-18631 Filed 8-27-21; 8:45 am]

BILLING CODE 5001-10-P